DEPARTMENT OF HEALTH AND HUMAN SERVICES

Centers for Disease Control and Prevention

[30Day-09-08AU]

Agency Forms Undergoing Paperwork Reduction Act Review

The Centers for Disease Control and Prevention (CDC) publishes a list of information collection requests under review by the Office of Management and Budget (OMB) in compliance with the Paperwork Reduction Act (44 U.S.C. Chapter 35). To request a copy of these requests, call the CDC Reports Clearance Officer at (404) 639-5960 or send an e-mail to omb@cdc.gov. Send written comments to CDC Desk Officer, Office of Management and Budget, Washington, DC or by fax to (202) 395-5806. Written comments should be received within 30 days of this notice.

Proposed Project

Assessing Problem Areas in Referrals for Chronic Hematologic Malignancies and Developing Interventions to Address Them—New—Division of Cancer Prevention and Control (DCPC), National Center for Chronic Disease Prevention and Health Promotion (NCCDPHP), Centers for Disease Control and Prevention (CDC).

Background and Brief Description

Despite the advent of new diagnostics and therapeutics for patients with chronic hematological malignancies, data from the United States, Europe and Canada allude to a problem of timely referral and diagnosis for patients with cancer. Improving the timeliness of care and referral to appropriate specialists are key health care quality objectives.

CDC proposes to conduct a one-time study to collect qualitative and quantitative information on optimal and suboptimal referral patterns for patients with confirmed or suspected chronic hematologic malignancies. Information will be collected to identify specific factors related to delays in diagnosis and/or referral to appropriate medical specialists. Information will be collected through in-depth interviews with hematologic cancer patients, in-depth interviews and focus groups with primary care providers, interviews with specialists in hematology and oncology, and a one-time postal survey to a sample of primary care providers (PCP). The PCP survey may be completed in paper form or via the Web.

The ultimate goal is to develop tools that will improve the awareness, diagnosis, and referral of persons with chronic hematological cancers by primary care providers.

There are no costs to respondents other than their time. The total estimated annualized burden hours are 198.

Estimated Annualized Burden Hours
Type of respondents | Form name | No. of respondents | No. of responses per respondent | Average burden per response (in hours)
Community Hematologists/Oncologists | Community Hematologists and Oncologists Interview Phone Recruitment Script | 100 | 1 | 2/60
| Community Hematologists and Oncologists Interview Guide | 18 | 1 | 1.5
Patients | Patient Interview Phone Recruitment Script | 50 | 1 | 2/60
| Patient Interview Guide | 18 | 1 | 1.5
Primary Care Providers (PCP) | PCP Survey Cover Letter | 250 | 1 | 2/60
| PCP Survey | 150 | 1 | 20/60
| PCP Opt-Out Card | 100 | 1 | 2/60
| PCP Survey Reminder Letter | 200 | 1 | 2/60
| PCP Interview Phone Recruitment Script | 100 | 1 | 3/60
| PCP Interview Guide | 18 | 1 | 1.5
| PCP Focus Group Phone Recruitment Script | 50 | 1 | 3/60
| PCP Focus Group Guide | 18 | 1 | 2

Dated: September 20, 2009.
Maryam I. Daneshvar,
Acting Reports Clearance Officer, Centers for Disease Control and Prevention.

[FR Doc. E9-23681 Filed 9-30-09; 8:45 am]

BILLING CODE 4163-18-P